DEPARTMENT OF HEALTH AND HUMAN SERVICES

Agency for Healthcare Research and Quality

Request for Planning Ideas for Development of an AHRQ Innovations Research Portfolio

Correction

In notice document E8-18671 appearing on page 47952 in the issue of Friday, August 15, 2008, make the following correction:

On page 47952, in the first column, under FOR FURTHER INFORMATION CONTACT:, in the second line, “francis.chesley@ahrg.hhs.gov” should read “francis.chesley@ahrq.hhs.gov”.

[FR Doc. Z8-18671 Filed 8-21-08; 8:45 am]

BILLING CODE 1505-01-D